DEPARTMENT OF HEALTH AND HUMAN SERVICES

Centers for Medicare & Medicaid Services

[Document Identifier: CMS-10095]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Detailed Explanation of Non-Coverage and Notice of Medicare Non-Coverage and Supporting Regulations in 42 CFR 422.624 and 42 CFR 422.626; Use: Providers will deliver a Notice of Medicare Non-Coverage to enrollees at least two days prior to the end of covered services in skilled nursing facilities, home health agencies, and comprehensive outpatient rehabilitation facilities. Enrollees will use this information to determine whether they wish to appeal the service termination to the Quality Improvement Organization (QIO) in their State. If the enrollee decides to appeal, the Medicare Health organization will send the QIO and the enrollee a Detailed Explanation of Non-Coverage detailing the rationale for the termination decision. Form Number: CMS-10095 (OMB#: 0938-0910); Frequency: Reporting: Yearly; Affected Public: Business or other for-profit and Not-for-profit institutions; Number of Respondents: 454; Total Annual Responses: 47,558; Total Annual Hours: 23,780.52.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503, Fax Number: (202) 395-6974.

Dated: March 16, 2007.
Michelle Shortt,
Director, Regulations Development Group, Office of Strategic Operations and Regulatory Affairs.

[FR Doc. E7-5296 Filed 3-22-07; 8:45 am]

BILLING CODE 4120-01-P